DEPARTMENT OF COMMERCE

International Trade Adminstration

[A-570-018]

Boltless Steel Shelving Units Prepackaged for Sale From the People's Republic of China: Amended Preliminary Determination of Sales at Less Than Fair Value and Postponement of Final Determination

AGENCY: Enforcement and Compliance, International Trade Administration, Commerce.

SUMMARY: On April 1, 2015, the Department of Commerce (“Department”) published the Preliminary Determination of sales at less than fair value (“LTFV”) in the antidumping duty investigation of boltless steel shelving units prepackaged for sale (“boltless steel shelving”) from the People's Republic of China (“PRC”).¹ We are amending our Preliminary Determination to correct a ministerial error with respect to the identification of companies receiving a separate rate. Specifically, we are amending the Preliminary Determination to grant a separate rate to HoiFat (NingBo) Office Facilities Co., Ltd. (“Hoifat”).

¹ See Boltless Steel Shelving Units Prepackaged for Sale from the People's Republic of China: Preliminary Determination of Sales at Less than Fair Value, 80 FR 17409 (April 1, 2015) (“Preliminary Determination”).

DATES: Effective: April 1, 2015.

FOR FURTHER INFORMATION CONTACT: Kabir Archuletta, AD/CVD Operations, Office V, Enforcement and Compliance, International Trade Administration, U.S. Department of Commerce, 14th Street and Constitution Avenue NW., Washington, DC 20230; telephone: (202) 482-2593.

SUPPLEMENTARY INFORMATION: As noted above, on April 1, 2015, the Department published in the Federal Register the Preliminary Determination that boltless steel shelving from the PRC is being, or is likely to be, sold in the United States at LTFV, as provided in section 733 of the Tariff Act of 1930, as amended (“Act”).² On March 30, 2015, Hoifat filed timely allegations of ministerial errors contained in the Department's Preliminary Determination.³

² See Preliminary Determination.

³ See Letter to the Secretary of Commerce from Hoifat “Ministerial Error Comment” (March 30, 2015) (“Hoifat Ministerial Comment”).

Period of Investigation

The period of investigation (“POI”) is January 1, 2014, through June 30, 2014.⁴

⁴ See 19 CFR 351.204(b)(1).

Scope of Investigation

The scope of this investigation covers boltless steel shelving units prepackaged for sale, with or without decks (“boltless steel shelving”). The term “prepackaged for sale” means that, at a minimum, the steel vertical supports (i.e., uprights and posts) and steel horizontal supports (i.e., beams, braces) necessary to assemble a completed shelving unit (with or without decks) are packaged together for ultimate purchase by the end-user. Subject boltless steel shelving enters the United States through Harmonized Tariff Schedule of the United States (“HTSUS”) statistical subheadings 9403.20.0018 and 9403.20.0020, but may also enter through HTSUS 9403.10.0040. While HTSUS subheadings are provided for convenience and customs purposes, the written description of the scope of this investigation is dispositive.⁵

⁵ For a complete description of the scope of the investigation, see Memorandum from Kabir Archuletta, Senior International Trade Analyst, Office V, to Christian Marsh, Deputy Assistant Secretary for Antidumping and Countervailing Duty Operations, “Antidumping Duty Investigation of Boltless Steel Shelving Units Prepackaged for Sale from the People's Republic of China: Analysis of Ministerial Error Allegation,” which is dated concurrently with and hereby adopted by this notice.

Significant Ministerial Error

Pursuant to 19 CFR 351.224(e) and (g)(1), the Department is amending the Preliminary Determination to reflect the correction of a significant ministerial error it made in the margin assigned to Hoifat, a separate rate applicant. A ministerial error is defined as errors in addition, subtraction, or other arithmetic function, clerical error resulting from inaccurate copying, duplication, or the like, and any other similar type of unintentional error which the Secretary considers ministerial.⁶ A significant ministerial error is defined as a ministerial error, the correction of which, singly or in combination with other errors, would result in (1) a change of at least five absolute percentage points in, but not less than 25 percent of, the weighted-average dumping margin calculated in the original (erroneous) preliminary determination, or (2) a difference between a weighted-average dumping margin of zero or de minimis and a weighted-average dumping margin of greater than de minimis or vice versa.⁷ As a result of this amended preliminary determination, we have added Hoifat to the list of exporters that received a separate rate.⁸

⁶ See section 735(e) of the Act.

⁷ See 19 CFR 351.224(g).

⁸ See the “Amended Preliminary Determination” section below.

Ministerial Error Allegations

On March 30, 2015, Hoifat, a separate rate applicant,⁹ submitted a ministerial error allegation claiming that although Hoifat filed a quantity and value response and a separate rate application in this investigation, its separate rate status was not analyzed and it was not named in the Preliminary Determination as one of the exporters receiving a separate rate.¹⁰ The Department reviewed the record and agrees that this constitutes a significant ministerial error within the meaning of 19 CFR 351.224(g). In its SRA, Hoifat submitted information supporting a preliminary finding of an absence of de jure and de facto government control.¹¹ Accordingly, we preliminarily determine that Hoifat is eligible for a separate rate, because the failure to conduct a separate rate analysis was an unintentional error. Further, this error was significant because Hoifat's margin increased from the separate rate of 52.23 to the PRC-wide rate of 112.68 as a result of this error, thus exceeding the significant error threshold because a correction of this error results in a change of at least five absolute percentage points.

⁹ See Letter to the Secretary of Commerce from Hoifat “Separate Rate Application” (November 21, 2014) (“SRA”).

¹⁰ See Hoifat Ministerial Comment.

¹¹ See Letter to the Secretary of Commerce from Hoifat “Separate Rate Application” (November 21, 2014) at 5-15 and Exhibits 3-14.

The collection of cash deposits and suspension of liquidation will be revised accordingly in accordance with section 733(d) and (f) of the Act and 19 CFR 351.224. Because the amended rate for Hoifat results in a reduced cash deposit rate, the rate for Hoifat will be effective retroactively to April 1, 2015, the date of publication of the Preliminary Determination.

Amended Preliminary Determination

As a result of this amended preliminary determination, we have revised the preliminary estimated weighted-average dumping margin for Hoifat as follows:

Exporter | Producer | Weighted-average margin (percent)
Zhongda United Holding Group Co., Ltd | Jiaxing Zhongda Metalwork Co., Ltd | 22.64
Jiaxing Zhongda Import & Export Co., Ltd | Jiaxing Zhongda Metalwork Co., Ltd | 22.64
Nanjing Topsun Racking Manufacturing Co., Ltd | Nanjing Topsun Racking Manufacturing Co., Ltd | 85.26
Ningbo ETDZ Huixing Trade Co., Ltd | Haifa (Ningbo) Office Equipment Co., Ltd | 50.23
Ningbo ETDZ Huixing Trade Co., Ltd | Ningbo Decko Metal Products Trade Co., Ltd | 50.23
Ningbo ETDZ Huixing Trade Co., Ltd | Lianfa Metal Product Co., Ltd | 50.23
Meridian International Co., Ltd | Zhejiang Limai Metal Products Co. Ltd | 50.23
Zhejiang Limai Metal Products Co., Ltd | Zhejiang Limai Metal Products Co., Ltd | 50.23
HoiFat (NingBo) Office Facilities Co., Ltd | HoiFat (NingBo) Office Facilities Co., Ltd | 50.23
PRC-Wide Entity |  | 112.68

Postponement of the Final Determination

In the Preliminary Determination, the Department stated that it would make its final determination for this antidumping duty investigation no later than 75 days after the preliminary determination.

Section 735(a)(2) of the Tariff Act of 1930 (“the Act”) provides that a final determination may be postponed until not later than 135 days after the date of the publication of the preliminary determination if, in the event of an affirmative determination, a request for such postponement is made by exporters who account for a significant proportion of exports of the subject merchandise, or in the event of a negative preliminary determination, a request for such postponement is made by petitioner. In addition, section 351.210(e)(2) of the Department's regulations require that requests by respondents for postponement of a final determination be accompanied by a request for extension of provisional measures from a four month period to not more than six months.

On April 7, 2015, Zhongda United Holding Group Co., Ltd., one of the two mandatory respondents in this investigation, requested a 60-day extension of the final determination and extension of the provisional measures. Thus, because our amended preliminary determination is affirmative, and the respondent requesting a postponement of the final determination and an extension of the provisional measures accounts for a significant proportion of exports of boltless steel shelving, and no compelling reasons for denial exist, we are postponing the deadline for the final determination by 60 days until August 14, 2015, based on the publication date of the

Preliminary Determination

International Trade Commission Notification

In accordance with section 733(f) of the Act, we notified the International Trade Commission of our amended preliminary determination.

This amended preliminary determination is issued and published in accordance with sections 733(f) and 777(i)(1) of the Act and 19 CFR 351.224(e).

Dated: April 10, 2015.
Ronald K. Lorentzen,
Acting Assistant Secretary for Enforcement and Compliance.

[FR Doc. 2015-08898 Filed 4-16-15; 8:45 am]

BILLING CODE 3510-DS-P